DEPARTMENT OF EDUCATION

34 CFR Part 600

RIN 1840-AD02

Institutional Eligibility Under the Higher Education Act of 1965, as Amended; Delay of Implementation Date

AGENCY: Office of Postsecondary Education, Department of Education.

ACTION: Final regulations; delay of implementation date.

SUMMARY: The Department further delays, until July 1, 2015, the implementation date for certain State authorization regulations for institutions of postsecondary education whose State authorization does not meet the requirements of these regulations, so long as the State is establishing an acceptable authorization process that is to take effect by the delayed implementation date.

DATES: The implementation date is delayed to July 1, 2015, as discussed in the Supplementary Information section of this document.

FOR FURTHER INFORMATION CONTACT: Sophia McArdle, U.S. Department of Education, 1990 K Street NW., Room 8019, Washington, DC 20006-8542. Telephone: (202) 219-7078 or by email at: Sophia.McArdle@ed.gov.

SUPPLEMENTARY INFORMATION: The Department further delays, until July 1, 2015, the implementation date of the changes to 34 CFR 600.9(a) and (b) (State authorization regulations) published in the Federal Register on October 29, 2010 (75 FR 66832) for institutions of postsecondary education whose State authorization does not meet the requirements of these regulations by July 1, 2014, so long as the State is establishing an acceptable authorization process that is to take effect by the delayed implementation date. On May 21, 2013, the Department delayed this date from July 1, 2013, to July 1, 2014 (78 FR 29652). The Department provides this further extension for institutions in order to provide States with additional time to finalize processes for those institutions to be able to comply with the State authorization provisions in § 600.9(a) and (b). Those provisions apply to an institution separately with respect to each State in which the institution has a main or additional location offering at least 50 percent of an eligible educational program.

In order for an institution that cannot meet the State authorization requirements to receive an extension until July 1, 2015, to implement § 600.9(a) and (b), the institution must obtain from the State an explanation, such as information on timeline and action steps to ensure compliance, of how an additional one-year extension will permit the State to finalize its procedures so that the institution is in compliance with amended § 600.9. The explanation must be provided to Department staff upon request.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature of this site, you can limit your search to documents published by the Department.

List of Subjects in 34 CFR Part 600

Colleges and universities, Foreign relations, Grant programs—education, Loan programs—education, Reporting and recordkeeping requirements, Student aid, Vocational education.

Dated: June 19, 2014.
Lynn B. Mahaffie,
Acting Assistant Secretary for Postsecondary Education.

[FR Doc. 2014-14721 Filed 6-23-14; 8:45 am]

BILLING CODE 4000-01-P